OFFICE OF THE UNITED STATES TRADE REPRESENTATIVE

Revised Fiscal Year 2006 Tariff-rate Quota Allocations for Raw Cane Sugar and Refined Sugar

AGENCY: Office of the United States Trade Representative.

ACTION: Notice.

SUMMARY: The Office of the United States Trade Representative (USTR) is providing notice of additional country-by-country allocations of the in-quota quantity of the tariff-rate quotas for imported raw cane sugar and refined sugar for the period October 1, 2005 through September 30, 2006 (FY 2006). In addition, USTR is providing notice of country-by-country re-allocations of the FY 2006 in-quota quantity of the tariff-rate quota for imported raw cane sugar.

DATES: Effective Date: February 28, 2006.

ADDRESSES: Inquiries may be mailed or delivered to Jason Hafemeister, Deputy Assistant U.S. Trade Representative, Office of Agricultural Affairs, Office of the United States Trade Representative, 600 17th Street, NW., Washington, DC 20508.

FOR FURTHER INFORMATION CONTACT: Jason Hafemeister, Office of Agricultural Affairs, telephone: 202-395-6127 or facsimile: 202-395-4579.

SUPPLEMENTARY INFORMATION: Pursuant to Additional U.S. Note 5 to chapter 17 of the Harmonized Tariff Schedule of the United States (HTS), the United States maintains a tariff-rate quota for imports of raw cane sugar and refined sugar.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

On February 2, 2006, the Secretary of Agriculture increased the in-quota quantity of the tariff-rate quota for raw cane sugar for FY 2006 by 226,796 metric tons * raw value. USTR is allocating this increased quantity. Further, USTR is re-allocating 35,126 metric tons raw value of the FY 2006 tariff-rate quota allocations that will not be used by certain countries. The total quantity of the raw sugar allocations (i.e., the additional allocation and the re-allocation) of 261,922 metric tons raw value is being allocated to the following countries:

* Conversion factor: 1 metric ton = 1.10231125 short tons.

FY 2006 Additional and Re-Allocations
Country | Metric tons raw value
Argentina | 15,461
Australia | 29,844
Belize | 3,955
Bolivia | 2,877
Brazil | 52,138
Colombia | 8,630
Costa Rica | 5,394
Ecuador | 3,955
El Salvador | 9,349
Guatemala | 17,259
Guyana | 4,315
Honduras | 3,596
Jamaica | 3,955
Malawi | 3,596
Mauritius | 4,315
Mozambique | 4,674
Nicaragua | 7,551
Panama | 10,428
Peru | 14,742
Philippines | 30,000
South Africa | 8,270
Swaziland | 5,753
Thailand | 5,034
Trinidad & Tobago | 2,517
Zimbabwe | 4,315

These allocations are based on the countries' historical shipments to the United States, excluding countries that are unable to ship additional sugar. The allocations of the raw cane sugar tariff-rate quota to countries that are net importers of sugar are conditioned on receipt of the appropriate verifications of origin. All other country raw cane sugar allocations, other than for those countries that are unable to ship additional sugar, remain unchanged from those announced on August 30, 2005 and December 9, 2005.

On February 2, 2006, the Secretary of Agriculture increased the in-quota quantity of the tariff-rate quota for refined sugar for FY 2006 by 226,796 metric tons raw value, none of which is for specialty sugars. A total of 25,000 metric tons raw value is being allocated to Canada and 59,349 metric tons raw value is being allocated to Mexico. The remaining 142,447 metric tons raw value of the in-quota quantity may be supplied by any country on a first-come, first-served basis, subject to any other provision of law. The certificate of quota eligibility is required for sugar entering under the tariff-rate quota for refined sugar that is the product of a country that has been allocated a share of the tariff-rate quota for refined sugar.

Rob Portman,
United States Trade Representative.

[FR Doc. E6-2737 Filed 2-27-06; 8:45 am]

BILLING CODE 3190-W6-P